DEPARTMENT OF LABOR

Employment and Training Administration

[TA-W-62,696]

J.J. Peiger Company; Pittsburgh, PA; Notice of Negative Determination Regarding Application for Reconsideration

By application of February 15, 2008, a petitioner requested administrative reconsideration of the Department's negative determination regarding eligibility for workers and former workers of the subject firm to apply for Trade Adjustment Assistance (TAA). The denial notice was signed on January 23, 2008 and published in the Federal Register on February 7, 2008 (73 FR 73191).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition was filed on behalf of workers at J.J. Peiger Company, Pittsburgh, Pennsylvania. The workers were engaged in the wholesale distribution of upholstery fabrics and supplies. The denial was based on the findings that during the relevant time period, the subject company did not separate or threaten to separate a significant number or proportion of workers, as required by Section 222 of the Trade Act of 1974.

In the request for reconsideration, the petitioner states that “in the past eight years, a number of JJP employees has dropped from eleven to six.” To support his allegations, the petitioner submitted the names of seven employees who were no longer with the company.

When assessing eligibility for TAA, the Department exclusively considers the relevant employment data (for one year prior to the date of the petition and any imminent layoffs) for the facility where the petitioning worker group was employed.

The Department contacted the company official to verify employment numbers at the subject firm since January 15, 2007 as well as the status of the employment of the workers provided by the petitioner in the reconsideration request. The company official confirmed that only one worker from the list was separated from the subject firm in the relevant period. Furthermore, the company official confirmed that overall employment did not decline at the subject firm since January 2007. As employment levels at the subject facility did not decline during the relevant time period and there was no threat of separations during the relevant period, criterion (1) has not been met. Significant number or proportion of the workers in a firm or appropriate subdivision means at least three workers in a workforce of fewer than 50 workers, five percent of the workers in a workforce of over 50 workers, or at least 50 workers.

Furthermore, the investigation revealed that the workers of J.J. Peiger Company, Pittsburgh, Pennsylvania are engaged in a wholesale distribution of upholstery fabrics and supplies. These functions, as described above, are not considered production of an article. Therefore, workers of the worker group do not produce an article within the meaning of Section 222 of the Trade Act of 1974.

Conclusion

After review of the application and investigative findings, I conclude that there has been no error or misinterpretation of the law or of the facts which would justify reconsideration of the Department of Labor's prior decision. Accordingly, the application is denied.

Signed at Washington, DC, this 4th day of March, 2008.
Elliott S. Kushner,
Certifying Officer, Division of Trade Adjustment Assistance.

[FR Doc. E8-4668 Filed 3-10-08; 8:45 am]

BILLING CODE 4510-FN-P